DEPARTMENT OF LABOR

Mine Safety and Health Administration

Proposed Information Collection Request Submitted for Public Comment and Recommendations; Record of Examination for Hazardous Conditions

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA 95) [44 U.S.C. 3506(c)(2)(A)]. This program helps to ensure that requested data can be provided in the desired format, reporting burden (time and financial resources) is minimized, collection instruments are clearly understood, and the impact of collection requirements on respondents can be properly assessed.

DATES: Submit comments on or before October 23, 2000.

ADDRESSES: Send comments to Brenda C. Teaster, Acting Chief, Records Management Division, 4015 Wilson Boulevard, Room 709A, Arlington, VA 22203-1984. Commenters are encouraged to send their comments on a computer disk, or via Internet E-mail to bteaster@msha.gov, along with an original printed copy. Mrs. Teaster can be reached at (703) 235-1470 (voice), or (703) 235-1563 (facsimile).

FOR FURTHER INFORMATION CONTACT: Brenda C. Teaster, Acting Chief, Records Management Division, U.S. Department of Labor, Mine Safety and Health Administration, Room 709A, 4015 Wilson Boulevard, Arlington, VA 22203-1984. Mrs. Teaster can be reached at bteaster@msha.gov (Internet E-mail), (703) 235-1470 (voice), or (703) 235-1563 (facsimile).

SUPPLEMENTARY INFORMATION:

I. Background

Coal mine operators are required by 30 CFR 77.1713 to conduct examinations of each active working area of surface mines, active surface installations at these mines, and preparation plants not associated with underground coal mines for hazardous conditions during each shift. A report of any hazardous conditions detected must be entered into a record book, along with a description of any corrective actions taken.

A number of potential hazards can exist at surface coal mines and facilities Highwalls, mining equipment, travelways, and the handling of mining materials each present possible hazardous conditions. Since promulgation of 30 CFR 77.1713 in 1971, numerous miners have either lost their lives at the areas affected by the subject standard or received injuries of varying degrees of seriousness. The majority of the injuries and fatalities resulted from hazardous conditions that had not been detected or corrected.

II. Desired Focus of Comments

Currently, the Mine Safety and Health Administration (MSHA) is soliciting comments concerning the proposed extension of the information collection related to the Record of Examinations for Hazardous Conditions. MSHA is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act submission (http://www.msha.gov/regspwork.htm)”, or by contacting the employee listed above in the For Further Information Contact section of this notice for a hard copy.

III. Current Actions

By conducting an on-shift examination for hazardous conditions, the mine operator better guarantees a safe working environment for the miners and a reduction in accidents. Examinations for hazardous conditions are required to be conducted each shift. To do so less frequently could allow unsafe conditions to go undetected that might result in an accident.

Type of Review: Extension.

Agency: Mine Safety and Health Administration.

Title: Record of Examination for Hazardous Conditions.

OMB Number: 1219-0083.

Affected Public: Business or other for-profit institutions.

Cite/Reference/Form/etc: 30 CFR 77.1713.

Total Respondents: 1,215.

Frequency: On occasion.

Total Responses: 411,885.

Average Time per Response: 1.5 hours.

Estimated Total Burden Hours: 617,828.

Estimated Total Burden Hour Cost: $32,417,434.

Estimated Total Burden Cost (capital/startup): $0.

Estimated Total Burden Cost (operating/maintaining): $0.

Comments submitted in response to this notice will be summarized and/or included in the request for Office of Management and Budget approval of the information collection request; they will also become a matter of public record.

Dated: August 18, 2000.
Brenda C. Teaster,
Acting Chief, Records Management Division.

[FR Doc. 00-21627 Filed 8-23-00; 8:45 am]

BILLING CODE 4510-43-M